FEDERAL RESERVE SYSTEM

Formations of, Acquisitions by, and Mergers of Bank Holding Companies; Correction

This notice corrects a notice (FR Doc. 01-16870) published on pages 35639-35640 of the issue for Friday, July 6, 2001.

Under the Federal Reserve Bank of New York heading, the entry for North Fork Bancorporation, Melville, New York, is revised to read as follows:

A. Federal Reserve Bank of New York (Betsy Buttrill White, Senior Vice President) 33 Liberty Street, New York, New York 10045-0001:

1. North Fork Bancorporation, Inc., Melville, New York; to acquire through North Fork Bank, Melville, New York, the voting shares of Commercial Bank of New York, New York, New York.

In connection with this application, North Fork Bank has applied to become a bank holding company.

Comments on this application must be received by July 30, 2001.

Board of Governors of the Federal Reserve System, July 18, 2001.
Jennifer J. Johnson,
Secretary of the Board.

[FR Doc. 01-18335 Filed 7-20-01; 8:45 am]

BILLING CODE 6210-01-S